GENERAL SERVICES ADMINISTRATION

41 CFR Part 101-6

RIN 3090-AH33

Nondiscrimination on the Basis of Race, Color, National Origin, Handicap, or Age in Programs or Activities Receiving Federal Financial Assistance; Correction

AGENCY: General Services Administration (GSA).

ACTION: Final rule; correction.

SUMMARY: The General Services Administration is issuing a correction to Nondiscrimination on the Basis of Race, Color, National Origin, Handicap, or Age in Programs or Activities Receiving Federal Financial Assistance; Final Rule, to correct a typographical error.

EFFECTIVE DATE: October 1, 2003.

FOR FURTHER INFORMATION CONTACT: Ms. Laurie Duarte at (202) 501-4755, General Services Administration, Regulatory Secretariat, Washington, DC 20405.

Correction

§ 101-6.216 [Corrected]

In the final rule FR Doc. 03-21140 appearing in the issue of August 26, 2003 (68 FR 51334):

On page 51373, third column, in paragraph (f)(3)(ii), fifth line, the word “nay” is corrected to read “any”.

Dated: September 22, 2003.
Laurie Duarte,
Regulatory Secretariat, Acquisition Policy Division.

[FR Doc. 03-24456 Filed 9-30-03; 8:45 am]

BILLING CODE 6820-34-P